DEPARTMENT OF THE INTERIOR

Fish and Wildlife Service

Endangered and Threatened Species Permit Application

AGENCY: Fish and Wildlife Service, Interior.

ACTION: Notice of receipt of application.

The following applicants have applied for scientific research permits to conduct certain activities with endangered species pursuant to sections 10(a)(1)(A) and 10(c) of the Endangered Species Act of 1973, as amended (16 U.S.C. 1531, et seq.).

Permit Number TE045225

Applicant: Gregory J. Lipps, Toledo, Ohio.

The applicant requests a permit to take (survey) the copperbelly water snake (Nerodia erythrogaster neglecta) and Lake Erie water snake (Nerodia sipedon insularum) in Ohio. The scientific research is aimed at enhancement of survival of the species in the wild.

Permit Number TE045579

Applicant: Michael A. Hoggarth, Westerville, Ohio.

The applicant requests a permit to take (capture, handle, and relocate) the purple cat's paw pearlymussel (Epioblasma obliquata obliquata) in Ohio. The scientific research is aimed at enhancement of survival of the species in the wild.

Permit Number TE045581

Applicant: Science Applications International Corporation, Oak Ridge, Tennessee

The applicant requests a permit to take (capture and relocate) Higgins' eye pearlymussel (Lampsilis higginsi) in the Upper Mississippi River in Illinois. The scientific research is aimed at enhancement of survival of the species in the wild.

Permit Number TE045585

Applicant: U.S. Geological Survey, Columbia, Missouri.

The applicant requests a permit to take (survey and collect) pallid sturgeon (Scaphirhynchus albus) in the Missouri River within Missouri. The scientific research is aimed at enhancement of survival of the species in the wild.

Written data or comments should be submitted to the Regional Director, U.S. Fish and Wildlife Service, Ecological Services Operations, 1 Federal Drive,Fort Snelling, Minnesota 55111 4056, and must be received within 30 days of the date of this publication.

Documents and other information submitted with this application are available for review by any party who requests a copy from the following office within 30 days of the date of publication of this notice: U.S. Fish and Wildlife Service, Ecological Services Operations, 1 Federal Drive, Fort Snelling, Minnesota 55111-4056, peter_fasbender@fws.gov, telephone (612) 713-5343, or Fax (612) 713-5292.

Dated: July 16, 2001.
Charlie M. Wooley,
Assistant Regional Director, Ecological Services, Region 3, Fort Snelling, Minnesota.

[FR Doc. 01-19123 Filed 7-31-01; 8:45 am]

BILLING CODE 4310-55-P